RAILROAD RETIREMENT BOARD

Agency Forms Submitted for OMB Review, Request for Comments

In accordance with the Paperwork Reduction Act of 1995 (44 U.S.C. Chapter 35), the Railroad Retirement Board (RRB) is forwarding an Information Collection Request (ICR) to the Office of Information and Regulatory Affairs (OIRA), Office of Management and Budget (OMB). Our ICR describes the information we seek to collect from the public. Review and approval by OIRA ensures that we impose appropriate paperwork burdens.

The RRB invites comments on the proposed collections of information to determine (1) the practical utility of the collections; (2) the accuracy of the estimated burden of the collections; (3) ways to enhance the quality, utility, and clarity of the information that is the subject of collection; and (4) ways to minimize the burden of collections on respondents, including the use of automated collection techniques or other forms of information technology. Comments to the RRB or OIRA must contain the OMB control number of the ICR. For proper consideration of your comments, it is best if the RRB and OIRA receive them within 30 days of the publication date.

Title and purpose of information collection: Employer Reporting; 3220-0031.

Under Section 6 of the Railroad Retirement Act (RRA) (45 U.S.C. 231e), lump-sum death benefits are payable to surviving widow(er)s, children, and certain other dependents. Lump-sum death benefits are payable after the death of a railroad employee only if there are no qualified survivors of the employee immediately eligible for annuities. With the exception of the residual death benefit, eligibility for survivor benefits depends on whether the deceased employee was “insured” under the RRA at the time of death. If the deceased employee was not insured, jurisdiction of any survivor benefits payable is transferred to the Social Security Administration and survivor benefits are paid by that agency instead of the RRB. The requirements for applying for benefits are prescribed in 20 CFR 217, 219, and 234.

The collection obtains the information required by the RRB to determine entitlement to and amount of the survivor death benefits applied for. To collect the information, the RRB uses Forms AA-21, Application for Lump-Sum Death Payment and Annuities Unpaid at Death; AA-21cert, Application Summary and Certification; G-131, Authorization of Payment and Release of All Claims to a Death Benefit or Accrued Annuity Payment; and G-273a, Funeral Director's Statement of Burial Charges. One response is requested of each respondent. Completion is required to obtain benefits.

Previous Requests for Comments: The RRB has already published the initial 60-day notice (90 FR 44850 on September 17, 2025) required by 44 U.S.C. 3506(c)(2). That request elicited no comments.

Information Collection Request (ICR)

Title: Employer Reporting.

OMB Control Number: 3220-0031.

Form(s) submitted: AA-21, AA-21cert, G-131 and G-273a.

Type of request: Revision of a currently approved collection.

Affected public: Individuals, Households or Private sector.

Abstract: The collection obtains the information needed to pay death benefits and annuities due but unpaid at death under the Railroad Retirement Act. Benefits are paid to designated beneficiaries or to survivors in a priority designated by law.

Changes proposed: The RRB proposes no changes to Forms AA-21, AA-21cert and G-131.

The RRB proposes the following changes to Form G-273a:

• In field 3, changed 3rd sentence and added 4th sentence to “If paid by prearrangement, please show the name of the person who made the prearrangement and any beneficiary, not the insurance company or financial institution making the final payment. If there was a pre-need agreement, please attach a copy of the contract.”

• In the Paperwork Reduction Act and Privacy Act Notices section, propose minor change to address.

The burden estimate for the ICR is as follows:

Form No. | Annual responses | Time (minutes) | Burden (hours)
AA-21cert with assistance | 3,500 | 20 | 1,167
AA-21 without assistance | 200 | 40 | 133
G-131 | 20 | 5 | 2
G-273a | 2,000 | 10 | 333
Total | 5,720 |  | 1,635

Additional Information or Comments: Copies of the forms and supporting documents or comments regarding the information collection should be addressed to Brian Foster, Railroad Retirement Board, 844 North Rush Street, Chicago, Illinois 60611-1275 or emailed to Brian.Foster@rrb.gov.

Written comments and recommendations for the proposed information collection should be sent within 30 days of publication of this notice to www.reginfo.gov/public/do/PRAMain. Find this particular information collection by selecting “Currently under 30-day Review—Open for Public Comments” or by using the search function.

Brian Foster,
Clearance Officer.

[FR Doc. 2025-20233 Filed 11-18-25; 8:45 am]

BILLING CODE 7905-01-P